NUCLEAR REGULATORY COMMISSION

[Docket Nos. 50-266 and 50-301; NRC-2020-0277; SEIS-429-00-000-1730167609]

NextEra Energy Point Beach, LLC; Point Beach Nuclear Plant, Units 1 and 2; Final Supplemental Environmental Impact Statement

AGENCY: Nuclear Regulatory Commission.

ACTION: Notice; issuance.

SUMMARY: The U.S. Nuclear Regulatory Commission (NRC) has published a final Supplemental Environmental Impact Statement (SEIS), issued as NUREG-1437, Supplement 23, Second Renewal, to the Generic Environmental Impact Statement (GEIS) for License Renewal of Nuclear Plants, Final Report, regarding the subsequent license renewal of Renewed Facility Operating License Nos. DPR-24 and DPR-27 for an additional 20 years for Point Beach Nuclear Plant, Units 1 and 2 (Point Beach). Point Beach is located on the western shore of Lake Michigan in Manitowoc County, Wisconsin, approximately 15 miles north-northeast of Manitowoc, Wisconsin. Possible alternatives to the proposed action of subsequent license renewal include the no-action alternative and reasonable replacement power alternatives.

DATES: NUREG-1437, Supplement 23, Second Renewal is available as of August 8, 2025.

ADDRESSES: Please refer to Docket ID NRC-2020-0277 when contacting the NRC about the availability of information regarding this document. You may obtain publicly available information related to this document using any of the following methods:

• Federal Rulemaking Website: Go to https://www.regulations.gov and search for Docket ID NRC-2020-0277. Address questions about Docket IDs in Regulations.gov to Bridget Curran; telephone: 301-415-1003; email: Bridget.Curran@nrc.gov. For technical questions contact the individual listed in the “For Further Information Contact” section of this document.

• NRC's Agencywide Documents Access and Management System (ADAMS): You may access publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. NUREG-1437, Supplement 23, Second Renewal is available in ADAMS under Accession No. ML25191A238.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

• Public Library: A copy of NUREG-1437, Supplement 23, Second Renewal regarding the proposed subsequent renewal of Renewed Facility Operating License Nos. DPR-24 and DPR-27 for an additional 20 years for Point Beach will be available for public review at the Lester Public Library, 1001 Adams Street, Two Rivers, WI 54241.

FOR FURTHER INFORMATION CONTACT: Kevin Folk, Office of Nuclear Material Safety and Safeguards, U.S. Nuclear Regulatory Commission, Washington, DC 20555-0001; telephone: 301-415-6944; email: Kevin.Folk@nrc.gov.

SUPPLEMENTARY INFORMATION:

I. Background

In accordance with section 51.118 of title 10 of the Code of Federal Regulations, (10 CFR) “Final environmental impact statement—notice of availability,” the NRC is making available to the public NUREG-1437, Supplement 23, Second Renewal (the final SEIS) regarding the proposed subsequent renewal of Renewed Facility Operating License Nos. DPR-24 and DPR-27 for an additional 20 years for Point Beach. A notice of availability of the second draft report, which updated the 2021 draft SEIS, was published in the Federal Register on April 16, 2025 (90 FR 16008). The U.S. Environmental Protection Agency issued its notice of availability of the second draft report on April 18, 2025 (90 FR 16524). The public comment period on the second draft report ended on June 2, 2025, and the comments received on the second draft report, as well as on the 2021 draft SEIS, are addressed in the final SEIS.

II. Discussion

The second draft report, which updated the 2021 draft SEIS, was issued for public comment. The final SEIS (NUREG-1437, Supplement 23, Second Renewal) addresses the comments received on the second draft report and on the 2021 draft SEIS. As discussed in Chapter 4 of the final SEIS, the NRC staff has determined that the adverse environmental impacts of subsequent license renewal for Point Beach (i.e., the continued operation of Point Beach for a period of 20 years beyond the expiration dates of the current renewed operating licenses) are not so great that preserving the option of license renewal for energy-planning decision-makers would be unreasonable. This recommendation is based on: (1) information in the environmental report, as supplemented, and other documents submitted by NextEra Energy Point Beach, LLC; (2) the NRC staff's consultation with Federal, State, Tribal, and local governmental agencies; (3) the NRC staff's independent environmental review; and (4) the NRC staff's consideration of public comments received during the scoping process and on the second draft report and the 2021 draft SEIS.

Dated: August 13, 2025.
For the Nuclear Regulatory Commission.
Jacob Zimmerman,
Acting Deputy Director, Division of Rulemaking, Environmental, and Financial Support, Office of Nuclear Material Safety and Safeguards.

[FR Doc. 2025-15570 Filed 8-14-25; 8:45 am]

BILLING CODE 7590-01-P